SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

(OMB), Office of Management and Budget, Attn: Desk Officer for SSA, Fax: 202-395-6974, E-mail address: OIRA_Submion@omb.eop.gov.

(SSA), Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than December 7, 2009. Individuals can obtain copies of the collection instrument by calling the SSA Director for Reports Clearance at 410-965-0454 or by writing to the above e-mail address.

1. Response to Notice of Revised Determination—20 CFR 404.913-.914, 404.992(b), 416.1413-.1414 and 416.1492(d)-0960-0347. When SSA determines that (1) claimants for initial disability benefits do not actually have a disability or (2) current disability recipients' disability ceased, the agency must notify the disability claimants/recipients of this decision. In response to this notice, the affected claimants and disability recipients have the following recourse: (1) They may request a disability hearing to contest SSA's decision, and (2) they may submit additional information or evidence for SSA to consider. Disability claimants, recipients, and their representatives use Form SSA-765, the Response to Notice of Revised Determination, to accomplish these two actions. The respondents are disability claimants, current disability recipients, or their representatives.

Type of Request: Extension of an OMB-approved information collection.

Number of Respondents: 1,925.

Frequency of Response: 1.

Average Burden Per Response: 30 minutes.

Estimated Annual Burden: 963 hours.

2. Statement of Household Expenses and Contributions—20 CFR 416.1130-416.1148-0960-0456. SSA uses the information from Form SSA-8011-F3, to determine whether the claimant or recipient receives in-kind support and maintenance. This is necessary to determine the claimant or recipient's eligibility for Supplemental Security Income (SSI) and the amount of benefits payable. SSA does not use this form for all claims and post eligibility determinations. SSA uses this form only in cases where SSA needs the householder's (head of household) corroboration of in-kind support and maintenance. Respondents are householders where an SSI applicant or recipient resides.

Type of Request: Extension of an OMB-approved information collection.

Number of Respondents: 400,000.

Frequency of Response: 1.

Average Burden Per Response: 15 minutes.

Estimated Annual Burden: 100,000 hours.

3. Request for Reinstatement (Title II)—20 CFR 404.1592b-404.1592f-0960-0742. Through Form SSA-371, SSA obtains a signed statement from individuals stating a request for Expedited Reinstatement (EXR) of their Title II disability benefits, and proof the requestor meets the EXR requirements. SSA maintains the form in the disability folder of the applicant to demonstrate the individual's awareness of the EXR requirements and their choice to request EXR. Respondents are individuals requesting expedited reinstatement of his or her Title II disability benefits.

Type of Request: Extension of an OMB-approved information collection.

Number of Respondents: 10,000.

Frequency of Response: 1.

Average Burden Per Response: 2 minutes.

Estimated Annual Burden: 333 hours.

4. Request for Reinstatement (Title XVI)—20 CFR 416.999-416.999d-0960-0744. Through the SSA-372, SSA obtains a signed statement from individuals stating a request for Expedited Reinstatement (EXR) of their Title XVI SSI payments, and proof the requestor meets the EXR requirements. SSA maintains the form in the disability folder of the applicant to demonstrate the individual's awareness of the EXR requirements and their choice to request EXR. Respondents are individuals requesting expedited reinstatement of his or her Title XVI SSI payments.

Type of Request: Revision of an OMB approved information collection.

Number of Respondents: 2,000.

Frequency of Response: 1.

Average Burden Per Response: 2 minutes.

Estimated Annual Burden: 67 hours.

II. SSA has submitted the information collections we list below to OMB for clearance. Your comments on the information collections would be most useful if OMB and SSA receive them within 30 days from the date of this publication. To be sure we consider your comments, we must receive them no later than November 5, 2009. You can obtain a copy of the OMB clearance packages by calling the SSA Director for Reports Clearance at 410-965-0454 or by writing to the above e-mail address.

1. Continuing Disability Review Report—20 CFR 404.1589, 416.989-0960-0072. SSA may conduct a review to determine whether individuals receiving disability benefits are still entitled to or eligible for those benefits. SSA uses Form SSA-454 to collect the information it needs to complete the review for continued disability from recipients or from their representatives. SSA conducts reviews on a periodic basis depending on the respondent's disability. We obtain information on sources of medical treatment, participation in vocational rehabilitation programs (if any), attempts to work (if any), and the opinions of individuals regarding whether their conditions have improved. The respondents are Title II and/or Title XVI disability recipients or their representatives.

Type of Request: Revision of an OMB approved information collection.

Modality of completion | Number of respondents | Frequency of response | Average burden per response (minutes) | Total annual burden (hours)
SSA-454-BK | 258,700 | 1 | 60 | 258,700
SSA-454-ICR | 300 | 1 | 30 | 150
EDCS Interview | 300 | 1 | 30 | 150
Total | 259,300 |  |  | 259,000

Dated: September 30, 2009.
Elizabeth A. Davidson,
Director, Center for Reports Clearance, Social Security Administration.

[FR Doc. E9-24054 Filed 10-5-09; 8:45 am]

BILLING CODE 4191-02-P